DEPARTMENT OF ENERGY

Office of Energy Efficiency and Renewable Energy

[Case No. RF-006]

Energy Conservation Program for Consumer Products: Decision and Order Granting a Waiver to Liebherr Hausgeräte From the Department of Energy Electric Refrigerator and Electric Refrigerator-Freezer Test Procedures

AGENCY: Office of Energy Efficiency and Renewable Energy, Department of Energy.

ACTION: Notice of decision and order.

SUMMARY: Today's notice publishes a Decision and Order (Case No. RF-006) granting a waiver to Liebherr Hausgeräte (Liebherr) from the existing Department of Energy (DOE) test procedure for residential electric refrigerators and refrigerator-freezers, for its combination wine storage-freezer line of appliances.

FOR FURTHER INFORMATION CONTACT: Dr. Michael G. Raymond, U.S. Department of Energy, Building Technologies Program, Mail Stop EE-2J, Forrestal Building, 1000 Independence Avenue, SW., Washington, DC 20585-0121, (202) 586-9611, E-mail: Michael.Raymond@ee.doe.gov; or Francine Pinto, Esq., U.S. Department of Energy, Office of General Counsel, Mail Stop GC-72, Forrestal Building, 1000 Independence Avenue, SW., Washington, DC 20585-0121, (202) 586-9507, E-mail: Francine.Pinto@hq.doe.gov.

SUPPLEMENTARY INFORMATION: In accordance with 10 CFR 430.27(l), notice is hereby given of the issuance of the Decision and Order set forth below. In the Decision and Order, the DOE grants Liebherr a Waiver from the electric refrigerator and electric refrigerator-freezer test procedures under 10 CFR 430.23(a), for its combination wine storage-freezer products. This Waiver is applicable only to units whose wine storage compartment occupies more than 50 percent of the total volume of the unit and cannot be converted to any other type of compartment. Today's decision requires that any representations concerning the energy efficiency of these products are made consistent with the provisions and restrictions in the modified test procedure set forth in the Decision and Order below.

Issued in Washington, DC, on April 9, 2007.
Alexander A. Karsner,
Assistant Secretary, Energy Efficiency and Renewable Energy.

Decision and Order

In the Matter of: Liebherr Hausgeräte (Liebherr). (Case No. RF-006).

Background

Title III of the Energy Policy and Conservation Act (“EPCA”) sets forth a variety of provisions concerning energy efficiency. Part B of Title III (42 U.S.C. 6291-6309) provides for the “Energy Conservation Program for Consumer Products Other Than Automobiles.” Part B includes definitions, test procedures, labeling provisions, energy conservation standards, and the authority to require information and reports from manufacturers. Further, Part B authorizes the Secretary of Energy to prescribe test procedures that are reasonably designed to produce results which measure energy efficiency, energy use, or estimated operating costs, and that are not unduly burdensome to conduct. (42 U.S.C. 6293(b)(3)) The test procedure for residential refrigerators and refrigerator-freezers is contained in 10 CFR part 430, subpart B, Appendix A1. DOE's regulations contain provisions that allow a person to petition for a waiver from any test procedure requirement for covered consumer products. These provisions are set forth in 10 CFR 430.27. The waiver provisions authorize the Assistant Secretary for Energy Efficiency and Renewable Energy to temporarily waive the test procedure for a particular basic model, provided that the petitioner shows that the basic model contains one or more design characteristics that prevent testing according to the prescribed test procedures, or when the prescribed test procedures may evaluate the basic model in a manner so unrepresentative of its true energy consumption as to provide materially inaccurate comparative data. 10 CFR 430.27(l).

The Assistant Secretary may grant the waiver subject to conditions, including adherence to alternate test procedures.¹ Petitioners must include in their petition any alternate test procedures known to evaluate the basic model in a manner representative of its energy consumption characteristics. 10 CFR 430.27(b)(1)(iii). Waivers generally remain in effect until final test procedure amendments resolving the problem that is the subject of the waiver become effective.

¹ 10 CFR 430.27(1).

On July 5, 2005, Liebherr submitted a Petition for Waiver from the electric refrigerator and electric refrigerator-freezer test procedure under 10 CFR 430.23(a). Liebherr requested a waiver from the DOE test procedure because, Liebherr asserts, its line of combination wine storage—freezer models are not accurately categorized by any of the current DOE classes for residential refrigeration appliances. The Liebherr product is currently classified as an automatic defrost refrigerator-freezer with bottom-mounted freezer. However, the wine storage compartment has a minimum temperature of 41 °F, which makes the product unsuitable for general use as a refrigerator-freezer. Liebherr asserts that to apply the current test procedure for electric refrigerator-freezers would evaluate these products in a manner so unrepresentative of their true energy consumption characteristics as to provide materially inaccurate comparative data.

Liebherr has proposed a modified test procedure based on the one prescribed for electric refrigerator-freezers under Appendix A1 to Subpart B of Part 430. The test procedure for electric refrigerator-freezers requires that a temperature of 45 °F be maintained in the refrigerator compartment; Liebherr's proposed method uses a temperature of 55 °F in the wine storage compartment, as this is the standard temperature for single wine coolers. The freezer compartment of this unit would maintain a temperature of 5 °F during the test and be treated as the freezer compartment of an electric refrigerator-freezer. All other portions of Liebherr's proposed test procedures would be identical to the procedures prescribed for electric refrigerator-freezers under Appendix A1 to subpart B of 10 CFR part 430.

On January 13, 2006, DOE published inr the Federal Register Liebherr's Petition for Waiver, and solicited comments, data, and information respecting the petition. 71 FR 2198. DOE received one written comment from Whirlpool Corporation (Whirlpool) dated February 14, 2006. Whirlpool acknowledged that the test procedures proposed by Liebherr are a reasonable means to determine energy consumption for this product line, but argued that the product better meets the definition of a freezer. According to Whirlpool, Liebherr's combination wine storage-freezer appliance resembles an electric freezer under the definition of “freezer” in 10 CFR 430.2, and should be tested with a modified version of the procedures for freezers in Appendix B1 to Subpart B of Part 430-Uniform Test Method for Measuring the Energy Consumption of Freezers. The difference between the DOE test procedure for refrigerator-freezers and Liebherr's modified test procedure is that the DOE test procedure requires the freezer compartment temperature be maintained at 0 °F, instead of 5 °F, as proposed by Liebherr. Liebherr submitted its rebuttal to Whirlpool's comment on June 30, 2006, which stated that classifying these appliances as electric freezers would be misleading because the majority of the volume within these appliances is designated for wine storage.

DOE's regulations define the term “freezer” as “a cabinet designed as a unit for the freezing and storage of food at temperatures of 0 F or below, and having a source of refrigeration requiring single phase, alternating electric energy input only.” 10 CFR 430.2. DOE understands that this definition is an abridged version of the definition in the American National Standards Institute (ANSI)/Association of Home Appliance Manufacturers (AHAM) Standard HRF-1-2004, “Energy, Performance and Capacity of Household Refrigerators, Refrigerator-Freezers and Freezers.” In comparison, ANSI/AHAM HRF-1-2004 defines the term “freezer” as “a cabinet which is designed for the extended storage of frozen food at an average temperature of 0 °F (−17.8 °C) or below and with inherent capability for freezing of food, which has a source of refrigeration, and which is intended for household use.” Neither definition prohibits freezers from having a compartment for items other than frozen food. However, neither definition addresses the matter of a wine storage compartment because, until now, such types of compartments were used for refrigerating food items, and therefore such a unit would be considered a refrigerator-freezer. Further, because freezers are generally used for longer-term storage of food items than the freezer compartments of electric refrigerator-freezers, the temperature for a freezer is 0 °F, instead of 5 °F for an electric refrigerator-freezer. Because the majority of the volume of Liebherr's combination product is configured for wine storage, DOE agrees with Liebherr that 5 °F is the proper test temperature for the freezer compartment.

The National Institute of Standards and Technology (NIST) reviewed the Petition for Waiver, the comment submitted by Whirlpool, and the rebuttal submitted by Liebherr, and believes that the modified test procedure proposed by Liebherr is a reasonable method to test these units, provided that Liebherr meets the following two conditions: the wine storage compartment of these products shall not be capable of being converted into any other type of compartment, and the wine storage compartment of these products must account for at least 50 percent of the total volume of the unit. NIST concluded that the combination wine storage-freezer line of appliances addressed under Liebherr's Petition for Waiver meets both of these criteria.

Assertions and Determinations

Liebherr's Petition for Waiver asserts that there is not a current DOE test procedure for a combination wine storage-freezer, and thus the current test procedures would not measure the energy consumption in a representative manner. 71 FR 2199 (January 13, 2006). Liebherr asserts that its models WF 1051 and WFI 1051 do not fit into the current test procedures, and that “to evaluate the models in a representative manner of its true energy consumption characteristics the standard temperature of single wine coolers (55 °F) for the wine storage compartment and the standard temperature (5 °F) for the freezer compartment should be used.” (Liebherr Petition, page 3). Generally, it is agreed that 55 °F is the best temperature for long-term storage of wine. Lower temperatures slow maturation, higher temperatures age the wine prematurely. It is therefore reasonable to test the wine storage compartment at 55 °F, rather than the 45 °F temperature specified for refrigerator-freezers. In DOE's view, because of the minimum 41 °F temperature in the wine storage compartment, the energy use characteristics of models WF 1051 and WFI 1051 are not accurately represented by the DOE test procedures for refrigerators, refrigerator-freezers, and freezers. The Department agrees with Liebherr that testing these Liebherr products using a wine storage compartment temperature of 55 °F, and a freezer compartment temperature of 5 °F, will produce representative energy consumption results.

DOE consulted with the Federal Trade Commission (FTC) concerning the Liebherr petition. The FTC did not have any objections to the issuance of the waiver to Liebherr. DOE also consulted with the National Institute of Standards & Technology (NIST), who agreed that the proposed alternate test method is a reasonable one.

Conclusion

After careful consideration of all the material that Liebherr submitted, the comments received, and the review by NIST, it is ordered that:

(1) The “Petition for Waiver” filed by Liebherr Hausgerte (Liebherr) (Case No. RF-006) is hereby granted as set forth in paragraph (2) below.

(2) Liebherr shall test or rate its combination wine storage-freezer products listed below using the modified version of the electric refrigerator-freezer energy test procedure proposed by Liebherr, specifically, with a wine storage compartment temperature of 55 °F, and a freezer compartment temperature of 5 °F. The wine storage compartment of units tested by this method must not be convertible to any other type of compartment, and must account for 50% or more of the total volume:

Combination Wine Freezer models:

WF 1051, combination wine storage/freezer.

WFI 1051, combination wine storage/freezer.

(3) These combination wine storage/freezer products use a modified version of the test procedure for refrigerator-freezers based on an elevated temperature in one of the compartments, and therefore do not conform to any of the current DOE refrigerator or refrigerator-freezer classes. They are therefore not eligible for ratings under EnergyStar.

(4) Representations. Liebherr may make representations about the energy use of its wine storage/freezer products, for compliance, marketing, or other purposes, only to the extent that such representations are made consistent with the provisions outlined below.

(5) This waiver shall remain in effect from the date this Decision and Order is issued until DOE prescribes final test procedures appropriate to the above model series manufactured by Liebherr.

(6) This waiver is conditioned upon the presumed validity of statements, representations, and documentary materials provided by the petitioner. This waiver may be revoked or modified at any time upon a determination that the factual basis underlying the petition is incorrect, or DOE determines that the results from the modified test procedure are unrepresentative of the basic models' true energy consumption characteristics.

Issued in Washington, DC, on April 9, 2007.
Alexander A. Karsner,
Assistant Secretary, Energy Efficiency and Renewable Energy.

[FR Doc. E7-7757 Filed 4-23-07; 8:45 am]

BILLING CODE 6450-01-P